DEPARTMENT OF DEFENSE

Office of the Secretary

[Transmittal No. 25-01]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-01 and Policy Justification.

Dated: January 8, 2026.
Stephanie J. Bost,
Alternate OSD Federal Register Liaison Officer, Department of Defense.

BILLING CODE 6001-FR-P

BILLING CODE 6001-FR-C

Transmittal No. 25-01

Notice of Proposed Issuance of Letter of Offer Pursuant to Section 36(b)(1) of the Arms Export Control Act, as amended

(i) Prospective Purchaser: Taipei Economic and Cultural Representative Office in the United States (TECRO)

(ii) Total Estimated Value:

Major Defense Equipment * | $26 million
Other | $ 4 million
TOTAL | $30 million

Funding Source: National Funds

(iii) Description and Quantity or Quantities of Articles or Services under Consideration for Purchase:

Major Defense Equipment (MDE):

Sixteen (16) MK 75 76 mm gun mounts

Non-Major Defense Equipment:

The following non-MDE items will be included: shipping containers; correlated technical assistance to overhaul existing guns to ready for use condition; and other related elements of logistics and program support.

(iv) Military Department: Navy (TW-P-LIF)

(v) Prior Related Cases, if any: None

(vi) Sales Commission, Fee, etc., Paid, Offered, or Agreed to be Paid: None known at this time

(vii) Sensitivity of Technology Contained in the Defense Article or Defense Services Proposed to be Sold: None

(viii) Date Report Delivered to Congress: December 20, 2024

* as defined in Section 47(6) of the Arms Export Control Act.

POLICY JUSTIFICATION

Taipei Economic and Cultural Representative Office in the United States (TECRO)—MK 75 76 mm Gun Mounts

The Taipei Economic and Cultural Representative Office in the United States (TECRO) has requested to buy sixteen (16) MK 75 76 mm gun mounts. The following non-MDE items will be included: shipping containers; technical assistance to overhaul guns to be ready for use; and other related elements of logistics and program support. The estimated total cost is $30 million.

This proposed sale is consistent with United States (U.S.) law and policy as expressed in Public Law 96-8.

This proposed sale serves U.S. national, economic, and security interests by supporting the recipient's continuing efforts to modernize its armed forces and to maintain a credible defensive capability. The proposed sale will help improve the security of the recipient and assist in maintaining political stability, military balance, and economic progress in the region.

The proposed sale will improve the recipient's capability to meet current and future threats by providing surface and air defenses onboard various ships in inventory. The recipient will have no difficulty absorbing this equipment into its armed forces.

The proposed sale of this equipment and support will not alter the basic military balance in the region.

The equipment will be purchased from U.S. stock and then overhauled to be ready for use condition by the U.S. Coast Guard. There are no known offset agreements proposed in connection with this sale.

Implementation of this proposed sale will not require the assignment of any additional U.S. Government or contractor representatives to the recipient.

There will be no adverse impact on U.S. defense readiness as a result of this proposed sale.

[FR Doc. 2026-00361 Filed 1-9-26; 8:45 am]

BILLING CODE 6001-FR-P